ENVIRONMENTAL PROTECTION AGENCY

40 CFR Part 52

[EPA-R01-OAR-2014-0611; FRL-9960-69-Region 1]

Air Plan Approval; CT; Reasonably Available Control Technology for the 2008 8-Hour Ozone National Ambient Air Quality Standards

AGENCY: Environmental Protection Agency (EPA).

ACTION: Proposed rule.

SUMMARY: EPA is proposing approval of State Implementation Plan (SIP) revisions submitted by the State of Connecticut for purposes of implementing the 2008 ozone National Ambient Air Quality Standards. The SIP revisions consist of a demonstration that Connecticut meets the requirements of reasonably available control technology for the two precursors for ground-level ozone, oxides of nitrogen (NOX) and volatile organic compounds (VOCs), set forth by the Clean Air Act with respect to the 2008 ozone standards. Additionally, we are proposing approval of three related regulations that limit air emissions of these pollutants from sources within the State. This action is being taken in accordance with sections 172, 182, and 184 of the Clean Air Act.

DATES: Written comments must be received on or before May 8, 2017.

ADDRESSES: Submit your comments, identified by Docket ID No. EPA-R01-OAR-2014-0611, at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: Bob McConnell, Air Quality Planning Unit, U.S. Environmental Protection Agency, EPA New England Regional Office, 5 Post Office Square, Suite 100 (mail code: OEP05-2), Boston, MA 02109-3912, telephone number (617) 918-1046, fax number (617) 918-0046, email mcconnell.robert@epa.gov.

SUPPLEMENTARY INFORMATION: Throughout this document whenever “we,” “us,” or “our” is used, we mean EPA. The following outline is provided to aid in locating information in this preamble.

I. Background and Purpose

II. Summary of Connecticut's SIP Revisions

III. EPA's Evaluation of Connecticut's SIP Revisions

a. RACT Certification for the 2008 Ozone Standard

b. Municipal Waste Combustor (MWC) Regulation

c. NOX Control Requirements for Major Sources

d. NOX Control Requirements for Non-Major Sources

e. Compliance Date for Updated NOX RACT Requirements

f. Other Miscellaneous Revisions

IV. Proposed Action

V. Incorporation by Reference

VI. Statutory and Executive Order Reviews

I. Background and Purpose

On July 18, 2014, the Connecticut Department of Energy and Environmental Protection (CT DEEP) submitted a formal revision to its State Implementation Plan. The SIP revision consists of information documenting how Connecticut complied with the reasonably available control technology (RACT) ¹ requirements for the 2008 8-hour ozone standard. On September 16, 2016, Connecticut submitted portions of an amended version of section 22a-174-38 of the Regulations of Connecticut State Agencies (RCSA) controlling emissions from municipal waste combustors (MWCs), and requested that these provisions be incorporated into the Connecticut SIP. Additionally, on January 24, 2017, Connecticut submitted to EPA as a SIP revision request RCSA section 22a-174-22e, a regulation limiting emissions of NOX from major sources, and RCSA section 22a-174-22f, a regulation limiting NOX emissions from non-major sources. The September 16, 2016 and January 24, 2017 submittals are related to Connecticut's demonstration that the State has complied with the RACT requirements for the 2008 8-hour ozone standard. Connecticut also included within the January 24, 2017 submittal, a request that its previous NOX control regulation, RCSA section 22a-174-22, be withdrawn from the SIP effective June 1, 2018, because that regulation was superseded by the other submitted regulations which are more stringent.

¹ RACT is defined as “the lowest emission limitation that a particular source is capable of meeting by the application of control technology that is reasonably available considering technological and economic feasibility.” (44 FR 53762 (1979))

Sections 172(c)(1) and 182(b)(2) of the Clean Air Act (CAA) require states to implement RACT in areas classified as moderate (and higher) non-attainment for ozone, while section 184(b)(1)(B) of the Act requires RACT in states located in the Ozone Transport Region (OTR). Specifically, these areas are required to implement RACT for all major VOC and NOX emissions sources and for all sources covered by a Control Techniques Guideline (CTG). A CTG is a document issued by EPA which establishes a “presumptive norm” for RACT for a specific VOC source category. A related set of documents, Alternative Control Techniques (ACT) documents, exists primarily for NOX control requirements. States must submit rules, or negative declarations when no such sources exist for CTG source categories, but not for sources in ACT categories. However, RACT must be imposed on major sources of NOX, and some of those major sources may be within a sector covered by an ACT document.

In 2008, EPA revised the health-based National Ambient Air Quality Standards (NAAQS, or standards) for ozone, setting it at 0.075 parts per million (ppm) averaged over an 8-hour time frame. EPA determined that the revised 8-hour standard would be more protective of human health, especially with regard to children and adults who are active outdoors and individuals with a pre-existing respiratory disease such as asthma.

On March 6, 2015 (80 FR 12264), EPA published a final rule in the Federal Register that outlined the obligations that areas found to be in nonattainment of the 2008 ozone standard needed to address. This rule, herein referred to as the “2008 ozone implementation rule,” contained, among other things, a description of EPA's expectations for states with RACT obligations. The 2008 ozone implementation rule indicated that states could meet RACT through the establishment of new or more stringent requirements that meet RACT control levels, through a certification that previously adopted RACT controls in their SIP approved by EPA under a prior ozone NAAQS represent adequate RACT control levels for attainment of the 2008 ozone NAAQS, or with a combination of these two approaches. In addition, a state must submit a negative declaration in instances where there are no CTG sources.

II. Summary of Connecticut's SIP Revisions

On July 18, 2014, Connecticut submitted a demonstration that its regulatory framework for stationary sources meets the criteria for RACT as defined in EPA's 2008 ozone implementation rule. The State conducted a public comment process on its demonstration which concluded on July 11, 2014. Connecticut's RACT submittal notes that its prior designation as a nonattainment area for the 1979 and 1997 ozone standards resulted in the adoption of stringent controls for major sources of VOC and NOX, including RACT level controls. Therefore, as allowed for within the 2008 ozone implementation rule, much of Connecticut's submittal consists of a review of RACT controls adopted under previous ozone standards and an indication of whether those previously adopted controls still represent RACT for the 2008 ozone NAAQS. Additionally, Connecticut notes that as a member state of the Ozone Transport Commission (OTC), it works with that organization to identify and adopt, as deemed appropriate, regulations on additional VOC and NOX categories beyond those for which EPA has issued CTGs or ACT documents.

The State's July 18, 2014 submittal identifies the specific control measures that had been previously adopted to control emissions from major sources of VOC emissions, reaffirms negative declarations for some CTG categories, and describes updates Connecticut intended at that time to make to existing rules to strengthen them so that they would continue to represent RACT. Table 4 of Connecticut's submittal contains a summary of the previously-adopted measures for each of the CTG categories that EPA issued prior to 2006. The table identifies the specific state rule, where relevant, that is in place, the date of state adoption, and the date that EPA approved the rule into the Connecticut SIP. Connecticut notes that RCSA sections 22a-174-20 and 22a-174-32, which are the principal regulations in Connecticut that apply to stationary sources of VOC emissions, generally cover sources emitting 25 or more tons of VOC per year in the area that was classified as a severe nonattainment area under the 1-hour ozone standard (portions of Fairfield and Litchfield counties; see 56 FR 56694; November 6, 1991) and those emitting 50 or more tons of VOC per year in the rest of the State. However, for some CTG categories such as surface coating sources, Connecticut's rules include lower applicability thresholds consistent with the relevant CTGs. Additionally, section IV. A. of Connecticut's submittal describes the State's response to EPA's issuance of new VOC RACT CTGs in 2006, 2007, and 2008, which included adoption of a number of new regulations, negative declarations, and for miscellaneous industrial adhesives, submittal of a demonstration of an equivalence level of control from an existing regulation. EPA approved the State's SIP revisions addressing the 2006, 2007, and 2008 CTGs on June 9, 2014 (79 FR 32873).

As required, Connecticut's submittal addresses NOX emissions as well as VOC emissions. In particular, the submittal's Table 5 lists all major sources of NOX (and VOC) in the State, and identifies the NOX control regulation governing each source. Connecticut notes that all facilities in the State with the potential to emit 50 tons or more of NOX per year (or 25 tons in portions of Fairfield and Litchfield counties) are subject to RCSA section 22a-174-22, “Control of Nitrogen Oxide Emissions.” In addition, RCSA section 22a-174-38, Municipal waste combustors, regulates NOX emissions from Connecticut's six MWCs, which are currently the largest NOX emitting sector in the State, surpassing emissions from the State's fossil fueled electric utilities. Connecticut reviewed these two regulations and determined that both should be updated in order to represent RACT for the 2008 ozone NAAQS. Accordingly, on September 16, 2016, Connecticut submitted a SIP revision including an updated version of 22a-174-38 that contains a tightened NOX emission limit for mass burn waterwall refuse combustors. Additionally, on January 24, 2017, Connecticut submitted a SIP revision that includes a request to withdraw the State's existing NOX control regulation, RCSA s+ection 22a-174-22, from the SIP, and replace it with two NOX control regulations, namely, RCSA section 22a-174-22e, which limits NOX emissions from major sources, and 22a-174-22f, which limits NOX emissions from non-major sources of NOX.

Connecticut's review of its control program for major sources of VOC and NOX thus concludes that upon completion of its intended updates to existing NOX rules for MWCs and combustion sources, all major sources in the State will be subject to RACT meeting the RACT requirements of the 2008 ozone standard.

III. EPA's Evaluation of Connecticut's SIP Revisions

a. RACT Certification for the 2008 Ozone Standard

EPA has reviewed Connecticut's determination that it has adopted VOC and NOX control regulations for stationary sources that constitute RACT, and determined that the set of regulations cited by the State within its July 18, 2014 RACT certification SIP submittal, along with the subsequent adoption of the NOX control regulations cited below which we are proposing to approve within this action, constitute RACT for purposes of the 2008 ozone standard.

Connecticut's RACT certification submittal documents the State's VOC and NOX control regulations that have been adopted to ensure that RACT level controls are required in the State. These requirements include the following Regulations of Connecticut State Agencies: Section 22a-174-20, Control of Organic Compound Emissions; section 22a-174-22, Control of Nitrogen Oxide Emissions; section 22a-174-30, Dispensing of Gasoline/Stage I and Stage II Vapor Recovery; ² section 22a-174-32, RACT for Organic Compound Emissions; and 22a-174-38, Municipal Waste Combustors. We note that section 22a-174-22, Control of Nitrogen Oxide Emissions, will sunset on June 1, 2018, and be replaced by sections 22a-174-22e, which controls NOX emissions from major sources, and 22a-174-22f, which controls NOX emissions from non-major sources. These updated NOX control regulations are described further below, and will achieve more emission reductions than the rule they replace. Furthermore, Connecticut has adopted more stringent controls for some types of MWCs (also discussed further below), which will likewise further reduce NOX emissions in the State. Connecticut's RACT certification submittal notes that it has adopted numerous single source RACT orders for major sources of VOC and NOX that are not covered by one of EPA's CTGs or ACTs, and these orders have been submitted to EPA and incorporated into the SIP, as have individual orders providing for NOX trading among facilities within the State as authorized by section 22a-174-22.

² Connecticut subsequently replaced this regulation with RCSA section 22a-174-30a, which contains the Stage I related provisions but does not contain the Stage II requirements in light of the widespread use of on-board vapor recovery. RCSA section 22a-174-30a was submitted to EPA for approval on September 14, 2015. EPA will take action on the new RCSA section 22a-174-30a in the near future.

The State's submittal documents a substantial downward trend in ozone exceedance days between 1975 and 2013, much of which is attributable to the control measures put in place by Connecticut, upwind states, and federal control measures adopted in the early and mid-1990s pursuant to the Clean Air Act amendments of 1990. Connecticut's submittal also notes that VOC and NOX emissions from stationary sources contribute a relatively small portion to total emissions of those pollutants. For example, the State's major VOC sources only emitted 880 tons in 2011, which amounts to approximately 1% of Connecticut's anthropogenic VOC emissions. Major sources of NOX emissions emitted 5,902 tons in 2011, representing approximately 7.5% of total NOX emissions in the State.

We have reviewed Connecticut's RACT certification demonstration, and determined that the State's regulatory requirements and the resulting reduction in VOC and NOX emissions from major sources that they accomplish, demonstrate that a RACT level of control for both pollutants will be in place given the State's modifications to existing NOx regulations discussed below. Since we agree that the VOC and NOx stationary source control regulations which Connecticut has cited as meeting RACT do meet RACT for the 2008 ozone standard, we are proposing to approve Connecticut's July 18, 2014 RACT certification SIP.

Our most recent approval of a RACT certification SIP for Connecticut is fairly recent, occurring on June 27, 2013 (78 FR 38587), with respect to the 1997 ozone standard. Since then, in 2014, Connecticut re-evaluated its RACT regulations and determined that a number of NOX regulations, as described above, should be updated to be consistent with requirements in other states. Connecticut initiated a comprehensive stakeholder process with business, industry, and environmental advocates which resulted in the development of tighter NOX limits for MWCs, boilers, turbines, and reciprocating internal combustion engine (RICE) units. We note that Connecticut's July 18, 2014 RACT certification also discusses updates to its existing consumer products and architectural and industrial maintenance coatings regulations to implement tightened VOC emission limits. CT DEEP has since proposed these updates but has not yet submitted them to EPA for approval. Although these rules will assist Connecticut in its efforts to attain the ozone standard, these updates are not necessary for EPA's approval of the RACT certification. These rules do not apply to major stationary sources and are not categories for which EPA has issued a CTG. Therefore, they are not necessary components of the State's RACT certification.

b. Municipal Waste Combustor (MWC) Regulation

On December 6, 2001 (66 FR 63311), EPA approved portions of Connecticut's regulation limiting emissions from MWCs. More recently, on September 16, 2016, Connecticut submitted portions of an amended version of the MWC regulation, which is found at RCSA section 22a-174-38, to EPA, and requested it be incorporated into the SIP. The portions submitted for inclusion into the SIP pertain to NOX emission limits and related regulatory provisions. The primary revision made within the amendments was a lowering of the NOX emission limit for mass burn waterwall units from a range of between 177 to 200 parts per million (ppm) to 150 ppm, with an August 2, 2017 compliance date. The amendments also add an emission limit for ammonia, which will limit emissions of fine particulate matter (PM2.5) for MWC units that use selective non-catalytic reduction (SNCR) to control NOX emissions. Additionally, emission testing requirements, a schedule for testing emissions, and removal of provisions for use of NOX trading as a compliance mechanism were among other items included with the amendments. We have reviewed Connecticut's amended MWC requirements and are proposing approval of them. The most significant change being made is to the NOX emission limit for mass burn waterwall units, which is being lowered from an existing range of between 177 to 200 ppm, to a new limit of 150 ppm. Since the new limit is more stringent than the previously approved limit, the anti-back sliding requirements of section 110(l) of the CAA are met. Additionally, Connecticut's NOX emission limits for MWCs are more stringent than the corresponding federal limits for new sources found at 40 CFR part 60, subparts Ea, Cb, and Eb, and also are more stringent than the corresponding federal limits for existing sources found at 40 CFR part 62, subpart FFF.

c. NOX Control Requirements for Major Sources

EPA's most recent approval of Connecticut's regulation limiting NOX emissions from sources in the State occurred on July 20, 2014 (79 FR 39322). On January 24, 2017, Connecticut submitted a SIP revision to EPA that consisted of a comprehensive update of its NOX control requirements. Specifically, the revision included the regulatory revisions that Connecticut determined were necessary after evaluating the current state of RACT for boilers, turbines, and RICE engines. The submittal included two new regulations, RCSA 22a-174-22e, Control of nitrogen oxide emissions from fuel-burning equipment at major stationary sources of nitrogen oxides, and 22a-174-22f, High daily NOX emitting units at non-major sources of NOX. The two newly adopted regulations will reduce NOX emissions beyond the level achieved by the State's existing NOX control regulation, 22a-174-22, which will expire as of June 1, 2018. June 1, 2018 is also the effective date of the “Phase 1” control limits that affect some equipment types, as further described below.

After examining the NOX RACT limits in other states, in particular those in New York and New Jersey, Connecticut determined that some of its existing limits for boilers, turbines, and RICE units should be tightened. Therefore, in order to meet RACT for the 2008 ozone NAAQS, Connecticut adopted tighter limits, which it refers to as Phase 1 control limits, within section 22a-174-22e. This newly adopted regulation contains the following changes to 24-hour emission limits, with a June 1, 2018 compliance date for the new lower limits: for gas-fired cyclone boilers, rate reduced from 0.43 to 0.3 pounds per million British Thermal Unit (lbs/mmBTU); for coal-fired “other boilers,” ³ rate reduced from 0.38 to 0.28 lbs/mmBTU; for combined cycle combustion turbines, rate reduced from 55 to 42 parts per million (ppm) for gas fired units, and from 75 to 65 ppm for oil fired units. The existing limit of 0.9 lb/mmBTU for turbines rated at less than 100 million BTU/hr will be eliminated upon the compliance date for the Phase 1 limits. Connecticut also added new ozone season limits for boilers serving electrical generating units (EGUs), industrial boilers, and for simple cycle turbines in Phase 1. Additionally, Connecticut included a tune-up requirement applicable to boilers and RICE units to its Phase 1 requirements, which was not previously required. Connecticut included within its submittal of 22a-174-22e an analysis of the regulation compared to the State's prior NOX limits within 22a-174-22, which demonstrates that the newly adopted regulation accomplishes more emission reductions than the prior regulation, thereby meeting the requirements of section 110(l) of the CAA.

³ This category of coal fired boilers is applicable to the State's only coal fired electric utility boiler, Bridgeport Harbor Station.

Regarding the strengthened NOX limits, during the stakeholder process Connecticut was able to negotiate additional reductions in emission limits for boilers, turbines, and RICE units beyond those adopted in Phase 1, in part, by agreeing to a phased approach whereby the more stringent Phase 2 requirements would not need to be met until 2023. It should be noted that the Phase 2 requirements are not a necessary part of Connecticut's RACT certification for the 2008 ozone standard. The compliance date for Phase 1 controls is much sooner, occurring on June 1, 2018. Affected owners of NOX emitting equipment supported this approach because it provided valuable lead time to plan for the financial and logistical aspects of meeting the Phase 2 emission limits. Compliance dates are discussed further in section e. below.

d. NOX Control Requirements for Non-Major Sources

Regarding newly adopted RCSA section 22a-174-22f, High daily NOX emitting units at non-major sources of NOX, this regulation requires owners of equipment at small- and medium-sized “non-major” sources to track daily emissions during the ozone season, and take steps to reduce emissions if they exceed a certain level of NOX emissions. The rule's applicability levels are quite low, reaching as low as 3 mmBTU/hr for certain types of boilers, as low as 1 mmBTU/hr for RICE units, and as low as 6 mmBTU/hr for simple cycle and combined cycle turbines. Emission units subject to this rule are required to comply with various record keeping and reporting requirements, and in some circumstances, annual tune-up requirements. Moreover, the rule contains daily NOX emission thresholds, which if exceeded, will trigger additional requirements for the emission unit. Once an emission unit triggers the applicable NOX emission threshold, it must notify the State of this within 60 days, and thereafter meet the relevant emission rate contained in RCSA section 22a-174-22e within 270 days of the threshold being first exceeded. Connecticut is not specifically required to adopt a regulation for these sources to meet RACT since they are non-major sources and the CAA requires states to implement NOX RACT for all major sources. The rule will, however, strengthen the State's overall regulatory program for sources of NOX and help the State in its efforts to attain the ozone NAAQS. Connecticut included within its submittal of 22a-174-22f an analysis of the regulation compared to the State's prior NOx limits within 22a-174-22, which demonstrates that the newly adopted regulation accomplishes more emission reductions than the prior regulation, thereby meeting the requirements of section 110(l) of the CAA. Therefore, for the above reasons, EPA is proposing to approve Connecticut's 22a-174-22f into the Connecticut SIP.

e. Compliance Date for Updated NOX RACT Requirements

We have reviewed Connecticut's RACT certification for the 2008 ozone NAAQS and revised NOX control regulations, and are proposing approval of them into the Connecticut SIP. One consideration we evaluated in determining our proposed action on Connecticut's RACT certification for the 2008 ozone NAAQS was how to address RCSA section 22a-174-22e's Phase 1 compliance date of June 1, 2018 and RCSA section 22a-174-38's compliance date of August 2, 2017. Our March 6, 2015 implementation rule required RACT level controls be in place by January 1, 2017. See 80 FR 12280. However, despite the compliance dates of June 1, 2018 and August 2, 2017, we believe other circumstances weigh in favor of and merit our proposed approval of their RACT certification. Our rationale is as follows.

First, we note that the majority of sources continue to be controlled under NOX RACT requirements already contained in the SIP. The June 1, 2018 and August 2, 2017 compliance dates in question only apply to a subset of all of the facilities subject to RACT requirements, and those sources are already subject to controls approved into the SIP to meet RACT requirements, but will be more strictly controlled under section 22a-174-22e's Phase 1 requirements.

With regard to the new RACT requirements, given that January 1, 2017 has already passed, it is not possible to retroactively meet that date for compliance obligations. Connecticut completed its stakeholder process for 22a-174-22e with business, industry, and environmental advocates in 2016, and although its new NOX regulations became effective December 22, 2016, the State did not feel it was reasonable to require immediate compliance, and so sources were given until June 1, 2018 to come into compliance with the Phase 1 limits. Likewise, Connecticut's tightened NOX limits for MWCs became effective on August 2, 2016, and sources are required to comply with these limits within one year, i.e., by August 2, 2017.

Additionally, Connecticut's adoption of RCSA sections 22a-174-22e and f contain a number of provisions that accomplish more NOX reductions than what is required by RACT. For example, the requirements of 22a-174-22f, High daily NOX emitting units at non-major sources of NOX, as its name implies, applies to small- and medium-sized facilities that are not subject to RACT, but may, on any given day, emit significant amounts of NOX. This can happen on high electrical demand days (HEDDs), when additional electrical generating capacity is needed to maintain service, as determined by the relevant electrical grid operator. Over the past decade, Connecticut and the other states in the Northeast have identified this phenomenon as a prime concern because oftentimes these units, due to their infrequent use and low potential emissions on an annual basis, are not considered major sources and therefore not required to be equipped with air pollution controls. Connecticut's regulatory effort as embodied within 22a-174-22f directly targets this activity, and although not specifically required to meet the RACT requirements of the CAA, is something that EPA has encouraged states to address to help resolve their ozone air quality problems.

Another example of the stringency of Connecticut's recently adopted NOX control regulations are the Phase 2 emission limits which will be, upon their enactment, among the most stringent limits any state has adopted. Although not considered necessary to meet RACT for the 2008 ozone NAAQS, Connecticut understands that it will need to perform another RACT certification once implementation of the 2015 ozone NAAQS is underway, and had the foresight to establish the NOX emission limits that would likely be needed to demonstrate RACT under the more stringent 2015 ozone NAAQS. This course of action also provided businesses and industries in the State with sufficient lead time to accomplish the planning needed to meet the aggressive Phase 2 NOX emission limits. For these reasons, we believe it is appropriate to propose approval of Connecticut's certification that a RACT level of control is in place for major sources of NOX.

f. Other Miscellaneous Revisions

Additionally, in its January 24, 2017 SIP revision, Connecticut requested that a number of citations within other sections of its air pollution control regulations previously approved into the SIP be updated to reflect citations to the two new NOX control regulations that are replacing the State's original regulation, RCSA section 22a-174-22. The sections affected are as follows: RCSA sections 22a-174-8(b)(2); 22a-174-18(j)(6); 22a-174-22c(g)(3); and 22a-174-38(b)(6). Connecticut's January 24, 2017 and September 16, 2016 submittals also include the following miscellaneous revisions (not related to the July 18, 2014 RACT certification) for which we are not proposing any action at this time: RCSA sections 22a-174-3b, subsections (a)(5) and (6); 22a-174-33(g)(1); 22a-174-42(a); 22a-354-1(34)(K); and certain non-NOX related portions of 22a-174-38. Lastly, we are proposing approval of negative declarations Connecticut has made for the following CTG categories: Automobile coatings, Large petroleum dry cleaners, Fiberglass boat manufacturing, Equipment leaks from natural gas and gasoline processing plants, Petroleum refineries, Control of refinery vacuum producing systems, wastewater separators, and process unit turnarounds, and Flatwood paneling coatings. Connecticut reviewed the inventory information, interviewed field staff, and searched telephone and internet Web pages, including other state government databases, to confirm that no facilities exist in the State that are covered by the above mentioned CTG categories.

IV. Proposed Action

EPA is proposing approval of Connecticut's July 18, 2014 SIP submittal that demonstrates, along with the other regulations proposed for approval in today's action, that the State has adopted air pollution control strategies that represent RACT for purposes of compliance with the 2008 ozone standard. In this notice, we are proposing approval of an update to an existing regulation limiting emissions from MWCs, and a new regulation limiting emissions from major sources of NOX as representing RACT. We are also proposing approval of a new regulation limiting emissions from non-major sources of NOX, and proposing approval of a number of minor edits made to existing parts of Connecticut's air pollution control regulations that were updated to make citations correctly reference the State's newly adopted regulations. Last, we are proposing approval of a number of negative declarations for CTG categories for which Connecticut asserts no facilities exist within its borders.

EPA is soliciting public comments on the issues discussed in this notice or on other relevant matters. These comments will be considered before taking final action. Interested parties may participate in the Federal rulemaking procedure by submitting written comments to the EPA New England Regional Office listed in the ADDRESSES section of this Federal Register.

V. Incorporation by Reference

In this rule, the EPA is proposing to include in a final EPA rule regulatory text that includes incorporation by reference. In accordance with requirements of 1 CFR 51.5, the EPA is proposing to incorporate by reference the following Regulations of Connecticut State Agencies: Section 22a-174-22e, Control of nitrogen oxide emissions from fuel-burning equipment at major stationary sources of nitrogen oxides, effective December 22, 2016; Section 22a-174-22f, High daily NOX emitting units at non-major sources of NOX, effective December 22, 2016; Portions of section 22a-174-38, Municipal waste combustors, effective August 2, 2016; Section 22a-174-8(b)(2), effective December 22, 2016; Section 22a-174-18(j)(6), effective December 22, 2016; Section 22a-174-22c(g)(3), effective December 22, 2016; and Section 22a-174-38(b)(6), effective December 22, 2016. The EPA has made, and will continue to make, these documents generally available electronically through http://www.regulations.gov and/or in hard copy at the appropriate EPA office.

VI. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Nitrogen dioxide, Ozone, Reporting and recordkeeping requirements, Volatile organic compounds.

Authority: 42 U.S.C. 7401 et seq.

Dated: March 15, 2017.
Deborah A. Szaro,
Acting Regional Administrator, EPA Region 1.

[FR Doc. 2017-06891 Filed 4-5-17; 8:45 am]

BILLING CODE 6560-50-P